DEPARTMENT OF HOUSING AND URBAN DEVELOPMENT

[Docket No. FR-5681-N-34]

Federal Property Suitable as Facilities to Assist the Homeless

Correction

In notice document 2013-20287, appearing on pages 52559 through 52560 in the issue of Friday, August 23, 2013, make the following corrections:

1. On page 52560, in the first column, on the eighteenth line from the bottom of the page, the heading “Oregon” should read as follows:

Suitable/Unavailable Properties

Building

Oregon

2. On the same page, in the second column, on the eleventh line from the bottom of the page, the heading “Maryland” should read as follows:

Unsuitable Properties

Building

Maryland

3. On the same page, in the third column, on the second line, the heading “Land” should read as follows:

Unsuitable Properties

Land

[FR Doc. C1-2013-20287 Filed 9-3-13; 8:45 am]

BILLING CODE 1505-01-D